ELECTION ASSISTANCE COMMISSION

Sunshine Act Notice

AGENCY: United States Election Assistance Commission.

ACTION: Notice of public meeting.

Date and Time: Wednesday, April 18, 2007, 1-4 p.m.

Place: Westin Crown Center, Room: Washington Park 3, One East Pershing Road, Kansas City, Missouri 64108; (816) 474-4400.

Agenda: The Commission will receive presentations on research findings regarding effective ballot designs and effective polling place signage. The Commission will receive a presentation on the release of a Spanish translation glossary of election terminology. The Commission will also consider other administrative matters.

This meeting will be open to the public.

Person to Contact for Information: Bryan Whitener, Telephone: (202) 566-3100.

Thomas R. Wilkey,
Executive Director, U.S. Election Assistance Commission.

[FR Doc. 07-1576 Filed 3-27-07; 1:20 pm]

BILLING CODE 6820-KF-M